DEPARTMENT OF DEFENSE

Department of the Army

[Docket ID USA-2019-HQ-0031]

Proposed Collection; Comment Request

AGENCY: U.S. Army Corps of Engineers, DoD.

ACTION: Information collection notice.

SUMMARY: In compliance with the Paperwork Reduction Act of 1995, the U.S. Army Corps of Engineers (USACE) announces a proposed public information collection and seeks public comment on the provisions thereof. Comments are invited on: Whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by January 13, 2020.

ADDRESSES: You may submit comments, identified by docket number and title, by any of the following methods:

Federal eRulemaking Portal: http://www.regulations.gov. Follow the instructions for submitting comments.

Mail: Department of Defense, Office of the Chief Management Officer, Directorate for Oversight and Compliance, 4800 Mark Center Drive, Mailbox #24, Suite 08D09, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the USACE Infrastructure Team, ATTN: Sandra Stroud, CECW-I (3K87), 441 G Street NW, Washington, DC 20314, or by email to CW. Infrastructure.Team@usace.army.mil. Tel: (571) 515-0231.

SUPPLEMENTARY INFORMATION: Title; Associated Form; and OMB Number: Corps Water Infrastructure Financing Program (CWIFP) Preliminary Application and Application; OMB Control Number 0710-XXXX.

Needs and Uses: The Preliminary Application information collection requirement is necessary to (1) validate the eligibility of the prospective borrower and the proposed project, (2) perform a preliminary creditworthiness assessment, (3) perform a preliminary engineering and environmental feasibility assessment, and (4) evaluate the project against the selection criteria and identify which projects USACE will invite to submit applications. The Preliminary Application addresses the CWIFP eligibility criteria, CWIFP selection criteria, and identifies other specific information that must be provided to USACE to be considered for credit assistance. The Preliminary Application provides USACE with sufficient information to make a project selection and invite prospective borrowers to submit applications. Based on evaluation of the Preliminary Application, USACE will invite to submit an Application only those eligible projects that it expects to proceed to closing. Only those entities who are invited by USACE to submit an Application should proceed with the Application process. The Application provides USACE with information to assess the creditworthiness of both the applicant and project, identify the project's engineering and financial risk, negotiate the terms and conditions of the credit assistance, and calculate the amount of budget authority that will be needed to fund the project(s).

Affected Public: Individuals & households.

Annual Burden Hours: 50.

Number of Respondents: 15.

Responses per Respondent: 1.

Annual Responses: 15.

Average Burden per Response: 3.33 Hours.

Frequency: On occasion.

Dated: November 6, 2019.
Aaron T. Siegel,
Alternate OSD Federal Register Liaison Officer, Department of Defense.

[FR Doc. 2019-24599 Filed 11-12-19; 8:45 am]

BILLING CODE 5001-06-P